DEPARTMENT OF COMMERCE

International Trade Administration

[A-570-601]

Tapered Roller Bearings and Parts Thereof, Finished or Unfinished, from the People's Republic of China: Extension of Time Limit for the Preliminary Results of the 2008-2009 Administrative Review of the Antidumping Duty Order

AGENCY: Import Administration, International Trade Administration, Department of Commerce.

FOR FURTHER INFORMATION CONTACT: Brendan Quinn or Demitrios Kalogeropoulos, AD/CVD Operations, Import Administration, International Trade Administration, U.S. Department of Commerce, 14th Street and Constitution Avenue, NW, Washington, DC 20230, telephone: (202) 482-5848 or (202) 482-2623, respectively.

SUPPLEMENTARY INFORMATION:

Background

On July 29, 2009, the Department of Commerce (“the Department”) initiated the administrative review of the antidumping duty order on tapered roller bearings and parts thereof, finished or unfinished, from the People's Republic of China (“PRC”) for the period June 1, 2008, through May 31, 2009. See Initiation of Antidumping and Countervailing Duty Administrative Reviews and Deferral of Administrative Review, 74 FR 37690 (July 29, 2009). Due to the closure of the Government resulting from recent snowstorms, as of February 12, 2010, all Import Administration deadlines have been uniformly tolled for one calendar week. As a result, the current March 2, 2010, deadline for the publication of the preliminary results has been tolled to March 9, 2010. Thus, the preliminary results are currently due no later than March 9, 2010.

Statutory Time Limits

Section 751(a)(3)(A) of the Tariff Act of 1930, as amended (“the Act”), requires the Department to make a preliminary determination in an administrative review within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit of Preliminary Results

The Department finds it is not practicable to complete the preliminary results of this review within the original time limit because we require additional time to analyze various complicated issues involving, for example, ownership of a certain respondent, and to obtain additional information from the respondents. Accordingly, the Department is extending the time limit for completion of the preliminary results of this administrative review by the full 120 days allowed under section 751(a)(3)(A) of the Act. As explained in the memorandum from the Deputy Assistant Secretary for Import Administration, the Department has exercised its discretion to toll deadlines for the duration of the closure of the Federal Government from February 5, through February 12, 2010. Thus, all deadlines in this segment of the proceeding have been extended by seven days. The revised deadline for the preliminary results of this administrative review is now March 9, 2010. See Memorandum to the Record from Ronald Lorentzen, DAS for Import Administration, regarding “Tolling of Administrative Deadlines As a Result of the Government Closure During the Recent Snowstorm,” dated February 12, 2010. An extension of 120 days from this revised deadline would result in a new deadline of July 7, 2010, for the publication of the preliminary results. The final results continue to be due 120 days after the publication of the preliminary results.

We are issuing and publishing this notice in accordance with sections 751(a)(3)(A) and 777(i)(1) of the Act.

Dated: February 23, 2010.
John M. Andersen,
Acting Deputy Assistant Secretary for Antidumping and Countervailing Duty Operations.

[FR Doc. 2010-4284 Filed 3-1-10; 8:45 am]

BILLING CODE 3510-DS-S